SOCIAL SECURITY ADMINISTRATION

[Docket No: SSA-2019-0037]

Agency Information Collection Activities: Proposed Request

The Social Security Administration (SSA) publishes a list of information collection packages requiring clearance by the Office of Management and Budget (OMB) in compliance with Public Law 104-13, the Paperwork Reduction Act of 1995, effective October 1, 1995. This notice includes one new collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2019-0037].

The information collections below are pending at SSA. SSA will submit them to OMB within 60 days from the date of this notice. To be sure we consider your comments, we must receive them no later than November 12, 2019. Individuals can obtain copies of the collection instruments by writing to the above email address.

Ohio Direct Referral Demonstration (ODRD)—0960-NEW

Background

SSA is requesting clearance to collect data necessary to conduct a random assignment evaluation of volunteers in Ohio who enroll in Ohio Direct Referral Demonstration (ODRD). SSA and Opportunities for Ohioan's with Disabilities (OOD) will conduct the ODRD to test the effectiveness of providing direct referrals to vocational rehabilitation services for 18 and 19 year-olds who are, or may become, Supplemental Security Income (SSI) or Social Security Disability Insurance (SSDI) recipients. The participants in the demonstration will be individuals ages 18 and 19 at the time of enrollment, who are either (1) applying for SSDI or SSI or (2) undergoing an age-18 redetermination of SSI eligibility. The ODRD is a joint effort by SSA and OOD's Division of Disability Determination (DDD), and Ohio's Bureau of Vocational Rehabilitation (BVR). ODRD builds off other work by SSA exploring ways to improve the adult employment outcomes and financial independence for SSI recipients and SSI and SSDI applicants who are in the process of transitioning to adulthood. ODRD tests the effects of a direct referral to vocational rehabilitation services for individuals aged 18 or 19 who are in the process of applying for, or undergoing an evaluation to, retain SSDI benefits or SSI payments. We will use the data collected to answer the following questions:

• What effect did the intervention have on receipt of Ohio's BVR services?

• What effect did the intervention have on employment outcomes, such as job placement and earnings?

• What is the length of time from application to eligibility decision?

• What general vocational rehabilitation outcomes did participants achieve?

• What was the number of closed cases resulting in employment and what was the number of cases closed for other reasons?

Ohio Direct Referral Demonstration (ODRD) Project

Currently, SSA is seeking OMB clearance for the data collection related to enrollment and evaluation of the ODRD. Using SSA claims records, which DDD will access to perform disability determinations for SSA, DDD will attempt to recruit at least 750 participants.

As required under SSA's demonstration authority, DDD will obtain signed, informed consent from individuals who want to participate in the demonstration. Recruitment for the ODRD will require two forms: (1) A new Invitation to Participate and Consent form, and (2) Form SSA-3288, Consent for Release of Information (OMB #0960 0566). ODD will send the new Invitation to Participate and Consent form to young adult disability recipients, whose claim we sent to the DDD for a continuing disability review, and applicants to see if they are interested in participating in the demonstration. The ODRD Invitation to Participate and Consent forms will meet the informed consent requirements in the Social Security Act (Act) and SSA regulations. Specifically, they include language explaining the study as well as potential benefits and harms. SSA will use administrative records systems and BVR data to evaluate the effect of the demonstration.

This is a onetime collection of information, and there are no surveys or additional data collections for the ODRD. This collection is voluntary, and participation in this demonstration will have no impact on respondents' disability determination, benefits, or SSI payments. In addition, participation in the ODRD is revocable at any time. SSA and OOD will remove participants who revoke consent from the demonstration. Upon notification of revocation of participation, SSA and OOD will no longer use, transmit, or request information about the participant who revoked participation in any ODRD data exchange or analysis. Participation in the ODRD will have no effect on DDD's usual process for deciding eligibility for SSI payments or SSDI benefits.

The respondents are individuals aged 18 or 19 who are in the process of applying for, or undergoing an evaluation, to obtain or retain SSDI benefits or SSI payments.

Type of Request: This is a new information collection.

Modality of completion | Number of respondents | Frequency of response | Average burden per response (minutes) | Estimated total annual burden (hours)
Invitation to Participate and Consent Form | 750 | 1 | 6 | 75

Dated: September 6, 2019.
Naomi Sipple,
Reports Clearance Officer, Social Security Administration.

[FR Doc. 2019-19696 Filed 9-11-19; 8:45 am]

BILLING CODE 4191-02-P